DEPARTMENT OF COMMERCE

International Trade Administration

[C-533-913]

Certain Non-Refillable Steel Cylinders From India: Postponement of Preliminary Determination in the Countervailing Duty Investigation

AGENCY: Enforcement and Compliance, International Trade Administration, Department of Commerce.

DATES: Applicable July 7, 2023.

FOR FURTHER INFORMATION CONTACT: Shane Subler or Zachariah Hall, AD/CVD Operations, Office VIII, Enforcement and Compliance, International Trade Administration, U.S. Department of Commerce, 1401 Constitution Avenue NW, Washington, DC 20230; telephone: (202) 482-6241 or (202) 482-6261, respectively.

SUPPLEMENTARY INFORMATION:

Background

On May 17, 2023, the U.S. Department of Commerce (Commerce) initiated a countervailing duty (CVD) investigation of imports of certain non-refillable steel cylinders (cylinders) from India.¹ Currently, the preliminary determination is due no later than July 21, 2023.

¹ See Certain Non-Refillable Steel Cylinders From India: Initiation of Countervailing Duty Investigation, 88 FR 33580 (May 24, 2023) (Initiation Notice).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On June 26, 2023, the petitioner in this CVD investigation ² submitted a timely request that Commerce postpone the preliminary determination.³ The petitioner stated that Commerce needs additional time to collect and analyze questionnaire responses from the Government of India (GOI) and the mandatory respondents in this investigation.⁴ Additionally, the petitioner stated that the additional time will: (1) permit the petitioner to review data submitted by the GOI and the respondents; and (2) allow Commerce to request additional or clarifying information as necessary, as well as determine the extent to which countervailable subsidies have benefited the respondents.⁵

² The petitioner is Worthington Industries.

³ See Petitioner's Letter, “Petitioner's Request to Postpone Preliminary Determination,” dated June 26, 2023.

⁴ Id.

⁵ Id.

In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., September 25, 2023.⁶ Pursuant to section 705(a)(1) of the Act and 19 CFR 351.210(b)(1), the deadline for the final determination of this investigation will continue to be 75 days after the date of the preliminary determination.

⁶ Postponing the preliminary determination to 130 days after the date of initiation would place the deadline on Sunday, September 24, 2023. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: June 30, 2023.
Lisa W. Wang,
Assistant Secretary for Enforcement and Compliance.

[FR Doc. 2023-14427 Filed 7-6-23; 8:45 am]

BILLING CODE 3510-DS-P